DEPARTMENT OF AGRICULTURE

Forest Service

Lyon-Mineral County Resource Advisory Committee

AGENCY: Forest Service, USDA.

ACTION: Notice of meetings.

SUMMARY: The Lyon-Mineral County Resource Advisory Committee (RAC) will meet in Yerrington, Nevada. The RAC is meeting as authorized under the Secure Rural Schools and Community Self-Determination Act (Pub. L. 110-343) and in compliance with the Federal Advisory Committee Act. The RAC's purpose is to improve collaborative relationships and to provide advice and recommendations to the Forest Service concerning projects and funding consisent with Title II of the Act. The meeting is open to the public. The purpose of the meeting is to discuss the reduced funding and possible distribution for the 5th year Title II projects.

DATES: The meetings will be held at 10:00 a.m. on the following dates:

• September 3rd, 2013

• September 11th, 2013

• September 25th, 2013

ADDRESSES: The meetings will be held at the Commissioners Meeting Room, Lyon County Administration Complex, 27 South Main Street, Yerington, Nevada. Written comments may be submitted as described under SUPPLEMENTARY INFORMATION.

All comments, including names and addresses when provided, are placed in the record and are available for public inspection and copying. The public may inspect comments received at http://fs.usda.gov/goto/htnf/rac.

FOR FURTHER INFORMATION CONTACT: Mike Crawley, RAC Designated Federal Official, Bridgeport Ranger District, 760-932-7070.

Individuals who use telecommunication devices for the deaf (TDD) may call the Federal Information Relay Service (FIRS) at 1-800-877-8339 between 8:00 a.m. and 8:00 p.m., Eastern Standard Time, Monday through Friday. Please make requests in advance for sign language interpreting, assistive listening devices, or other reasonable accomodation for access to the facility or procedings by contacting the person listed FOR FURTHER INFORMATION CONTACT.

SUPPLEMENTARY INFORMATION: The following business will be conducted at the meetings: (1) Discussion of reduced 5th year funding and possible distribution for Title II projects; and (2) Public Comments. Persons who wish to bring related matters to the attention of the Committee may file written statements with the Committee staff before or after the meeting. The agenda will include time for people to make oral statements of three minutes or less. Individuals wishing to make an oral statement should request in writing by August 30th to be scheduled on the agenda.

Written comments and requests for time for oral comments must be sent to Mike Crawley, RAC Designated Federal Officer, Bridgeport Ranger District, Humboldt-Toiyabe National Forest, HC 62 Box 1000, Bridgeport, CA 93517, or by email to mcrawley@fs.fed.us or via facsimile to 760-932-5899.

Dated: August 5, 2013.
William A. Dunkelberger,
Forest Supervisor, Humboldt-Toiyabe National Forest.

[FR Doc. 2013-19752 Filed 8-13-13; 8:45 am]

BILLING CODE 3410-11-P